Proclamation 7520 of January 18, 2002

National Sanctity of Human Life Day, 2002

By the President of the United States of America

A Proclamation

This Nation was founded upon the belief that every human being is endowed by our Creator with certain “unalienable rights.” Chief among them is the right to life itself. The Signers of the Declaration of Independence pledged their own lives, fortunes, and honor to guarantee inalienable rights for all of the new country's citizens. These visionaries recognized that an essential human dignity attached to all persons by virtue of their very existence and not just to the strong, the independent, or the healthy. That value should apply to every American, including the elderly and the unprotected, the weak and the infirm, and even to the unwanted.

Thomas Jefferson wrote that, “[t]he care of human life and happiness and not their destruction is the first and only legitimate object of good government.” President Jefferson was right. Life is an inalienable right, understood as given to each of us by our Creator.

President Jefferson's timeless principle obligates us to pursue a civil society that will democratically embrace its essential moral duties, including defending the elderly, strengthening the weak, protecting the defenseless, feeding the hungry, and caring for children—born and unborn. Mindful of these and other obligations, we should join together in pursuit of a more compassionate society, rejecting the notion that some lives are less worthy of protection than others, whether because of age or illness, social circumstance or economic condition. Consistent with the core principles about which Thomas Jefferson wrote, and to which the Founders subscribed, we should peacefully commit ourselves to seeking a society that values life—from its very beginnings to its natural end. Unborn children should be welcomed in life and protected in law.

On September 11, we saw clearly that evil exists in this world, and that it does not value life. The terrible events of that fateful day have given us, as a Nation, a greater understanding about the value and wonder of life. Every innocent life taken that day was the most important person on earth to somebody; and every death extinguished a world. Now we are engaged in a fight against evil and tyranny to preserve and protect life. In so doing, we are standing again for those core principles upon which our Nation was founded.

NOW, THEREFORE, I, GEORGE W. BUSH, President of the United States of America, by virtue of the authority vested in me by the Constitution and the laws of the United States, do hereby proclaim Sunday, January 20, 2002, as National Sanctity of Human Life Day. I call upon all Americans to reflect upon the sanctity of human life. Let us recognize the day with appropriate ceremonies in our homes and places of worship, rededicate ourselves to compassionate service on behalf of the weak and defenseless, and reaffirm our commitment to respect the life and dignity of every human being.

IN WITNESS WHEREOF, I have hereunto set my hand this eighteenth day of January, in the year of our Lord two thousand two, and of the Independence of the United States of America the two hundred and twenty-sixth.

B

[FR Doc. 02-1971

Filed 1-23-02; 8:45 am]

Billing code 3195-01-P